DEPARTMENT OF THE TREASURY

Office of Foreign Assets Control

Designation of One Individual Pursuant to Executive Order 13566 of February 25, 2011

AGENCY: Office of Foreign Assets Control, Treasury.

ACTION: Notice.

SUMMARY: The Treasury Department's Office of Foreign Assets Control (“OFAC”) is publishing the name of an individual designated on October 18, 2012 as a person whose property and interests in property is blocked pursuant to Executive Order 13566 of February 25, 2011 “Blocking Property and Prohibiting Certain Transactions Related to Libya.”

DATES: The designation by the Director of OFAC of the individual identified in this notice, pursuant to Executive Order 13566 of February 25, 2011, is effective October 18, 2012.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On February 25, 2011, the President issued Executive Order 13566, “Blocking Property and Prohibiting Certain Transactions Related to Libya,” (the “Order”) pursuant to the International Emergency Economic Powers Act (50 U.S.C. 1701 et seq.) (IEEPA), the National Emergencies Act (50 U.S.C. 1601 et seq.) (the NEA), and section 301 of title 3, United States Code.

Section 1 of the Order blocks, with certain exceptions, all property and interests in property that are in the United States, that come within the United States, or that are or come within the possession or control of any United States person, of persons listed in the Annex to the Order and of persons determined by the Secretary of the Treasury, in consultation the Secretary of State, to satisfy certain criteria set forth in the Order.

On October 18, 2012, the Director of OFAC designated, pursuant to Section 1 of the Order, an individual whose property and interests in property are blocked. The listing for this individual is below.

Individual:

SANDERS, Dalene; DOB 14 Dec 1970; citizen South Africa; National ID No. 7012140235084 (South Africa) (individual) [LIBYA2]

Dated: October 18, 2012.
Adam J. Szubin,
Director, Office of Foreign Assets Control.

[FR Doc. 2012-26526 Filed 10-26-12; 8:45 am]

BILLING CODE 4810-AL-P